NUCLEAR REGULATORY COMMISSION

[Docket No. 50-286]

Entergy Nuclear Operations, Inc., Indian Point Nuclear Generating Unit No. 3; Environmental Assessment and Finding of No Significant Impact

The U.S. Nuclear Regulatory Commission (NRC) is considering issuance of an exemption from certain requirements of Title 10 of the Code of Federal Regulations (CFR) section 50.44, “Standards for combustible gas control system in light-water-cooled power reactors,” for Facility Operating License No. DPR-64, issued to Entergy Nuclear Operations, Inc. (ENO or licensee), for operation of the Indian Point Nuclear Generating Unit No. 3 (IP3) located in Westchester County, Buchanan, New York. The exemption would permit removal of the backup post accident containment ventilation (PACV) system for IP3. Therefore, as required by 10 CFR 51.21, the NRC is issuing this environmental assessment and finding of no significant impact.

Environmental Assessment

Identification of the Proposed Action

Section 50.44 of 10 CFR sets out requirements for the control of the hydrogen generated after a postulated loss-of-coolant accident (LOCA). The hydrogen control system at IP3 includes the PACV system. The proposed action would allow the licensee to remove the PACV system from the IP3 licensing basis. A planned retirement of the PACV system would occur during Refueling Outage 12, in the spring of 2003. The proposed action is in accordance with ENO's request for an exemption, dated October 3, 2002, as supplemented on January 16 and March 11, 2003.

The Need for the Proposed Action

The proposed exemption from the requirements pertaining to the hydrogen purge system and the associated removal from the licensing basis, would simplify the Severe Accident Management Guidelines and prevent the need to restore or maintain the PACV system with its accompanying cost and exposure. The capping of the piping for the PACV system containment penetrations also eliminates the need to verify the containment isolation valves in this system are operable.

Environmental Impacts of the Proposed Action

The NRC has completed its evaluation of the proposed action and concludes, as set forth below, that there are no significant environmental impacts associated with the removal of the PACV system from the IP3 licensing basis.

The proposed action will not significantly increase the probability or consequences of accidents, no changes are being made in the types or quantities of effluents that may be released off-site, and there is no significant increase in occupational or public radiation exposure since there is no change to facility operations that could create a new or affect a previously analyzed accident or release path. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no changes in current environmental impacts. The environmental impacts of the proposed action and the alternative action are similar.

Alternative Use of Resources

The action does not involve the use of any different resources than those previously considered in the Final Environmental Statement for IP3, dated February 1975.

Agencies and Persons Consulted

On March 14, 2003, the staff consulted with the New York State official, Mr. John Spath of the New York State Energy Research and Development Authority, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated October 3, 2002, as supplemented by letters dated January 16 and March 11, 2003. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 25th day of March, 2003.
For the Nuclear Regulatory Commission.
Richard J. Laufer,
Chief, Section 1, Project Directorate I, Division of Licensing Project Management, Office of Nuclear Reactor Regulation.

[FR Doc. 03-7629 Filed 3-28-03; 8:45 am]

BILLING CODE 7590-01-P